DEPARTMENT OF ENERGY

Federal Energy Regulatory Commission

[Project No. 1051-012 Alaska]

Alaska Power & Telephone Company; Notice of Availability of Environmental Assessment

April 10, 2007.

In accordance with the National Environmental Policy Act of 1969, as amended, and the Federal Energy Regulatory Commission's (Commission or FERC) regulations, 18 CFR part 380 (Order No. 486, 52 FR 47897), the Office of Energy Projects has reviewed the application for a subsequent license for the existing Skagway-Dewey Lakes Hydroelectric Project and has prepared an Environmental Assessment (EA) for the project. The 943-kilowatt (kW) project is located on Pullen, Dewey, Reid, Icy, and Snyder Creeks in Skagway, southeastern Alaska. The project does not occupy any federal lands. The project generates an average of about 3,500,000 kilowatthours (kWh) of energy annually. AP&T proposes no new capacity and no new construction.

The EA contains the staff's analysis of the potential environmental effects of the proposed project and concludes that licensing the project, with appropriate environmental protective measures, would not constitute a major federal action that would significantly affect the quality of the human environment.

A copy of the EA is on file with the Commission and is available for public inspection. The EA may also be viewed on the Commission's Web site at http://www.ferc.gov using the “eLibrary” link. Enter the docket number excluding the last three digits in the docket number filed to access the document. For assistance, contact FERC Online Support at FERCOnlineSupport@ferc.gov or toll-free at (866)-208-3676; for TTY contact (202) 502-8659.

Any comments on the EA should be filed within 30 days from the date of this notice and should be addressed to the Secretary, Federal Energy Regulatory Commission, 888 First Street, NE., Room 1-A, Washington, DC 20426. Please affix “Skagway-Dewey Lakes Hydroelectric Project No. 1051-012” to all comments. Comments may be filed electronically via Internet in lieu of paper. The Commission strongly encourages electronic filings. See 18 CFR 385.2001(a)(1)(iii) and the instructions on the Commission's Web site under the “e-Filing” link. For further information, contact Shana Murray at (202) 502-8333 or by e-mail at shana.murray@ferc.gov.

Kimberly D. Bose,
Secretary.

[FR Doc. E7-7158 Filed 4-13-07; 8:45 am]

BILLING CODE 6717-01-P